DEPARTMENT OF STATE

[Public Notice 8442]

Determination on Imposition and Waiver of Sanctions Under Sections 603 and 604 of the Foreign Relations Authorization Act, Fiscal Year 2003 (Pub. L. 107-228)

Consistent with the authority contained in Section 604 of the Foreign Relations Authorization Act, Fiscal Year 2003 (Pub. L. 107-228) (the “Act”), the Delegation of Authority in the April 30, 2009, Memorandum for the Secretary of State, and Department of State Delegation of Authority No. 245-1, and with reference to the determinations set out in the Report to the Congress transmitted pursuant to Section 603 of that Act, regarding the extent of noncompliance by the Palestine Liberation Organization (PLO) or Palestinian Authority with certain commitments, I hereby impose the sanction set out in Section 604(a)(2), “Downgrade in Status of the PLO Office in the United States.” This sanction is imposed for a period of 180 days from the date that the report under Section 603 of the Act is transmitted to the Congress or until such time as the next report under Section 603 is required to be transmitted to the Congress, whichever is later.

Furthermore, I hereby determine that it is in the national security interest of the United States to waive that sanction, pursuant to Section 604(c) of the Act. This waiver shall be effective for a period of 180 days from the date hereof or until such time as the next report under Section 603 of the Act is required to be transmitted to Congress, whichever is later.

This Determination shall be reported to Congress promptly and published in the Federal Register.

Dated: August 8, 2013.
William J. Burns,
Deputy Secretary of State.

[FR Doc. 2013-20909 Filed 8-26-13; 8:45 am]

BILLING CODE 4710-31-P